DEPARTMENT OF THE INTERIOR

National Park Service

[NPS-WASO-NAGPRA-17374; PPWOCRADN0-PCU00RP14.R50000]

Notice of Inventory Completion: Buffalo Bill Museum and Grave (formerly the Buffalo Bill Memorial Museum), Golden, CO

AGENCY: National Park Service, Interior.

ACTION: Notice.

SUMMARY: The Buffalo Bill Museum and Grave (formerly the Buffalo Bill Memorial Museum) has completed an inventory of human remains, in consultation with the appropriate Indian tribes or Native Hawaiian organizations, and has determined that there is a cultural affiliation between the human remains and present-day Indian tribes or Native Hawaiian organizations. Lineal descendants or representatives of any Indian tribe or Native Hawaiian organization not identified in this notice that wish to request transfer of control of these human remains should submit a written request to the Buffalo Bill Museum and Grave (formerly the Buffalo Bill Memorial Museum). If no additional requestors come forward, transfer of control of the human remains to the lineal descendants, Indian tribes, or Native Hawaiian organizations stated in this notice may proceed.

DATES: Lineal descendants or representatives of any Indian tribe or Native Hawaiian organization not identified in this notice that wish to request transfer of control of these human remains should submit a written request with information in support of the request to the Buffalo Bill Museum and Grave (formerly the Buffalo Bill Memorial Museum) at the address in this notice by March 6, 2015.

ADDRESSES: Steve Friesen, Director, Buffalo Bill Museum and Grave, 987 1/2 Lookout Mountain Road, Golden, CO 80401, telephone (303) 526-0744, email steve.friesen@denvergov.org.

SUPPLEMENTARY INFORMATION: Notice is here given in accordance with the Native American Graves Protection and Repatriation Act (NAGPRA), 25 U.S.C. 3003, of the completion of an inventory of human remains under the control of the Buffalo Bill Museum and Grave (formerly the Buffalo Bill Memorial Museum), Golden, CO. The human remains were removed from an unknown location.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by the Buffalo Bill Museum and Grave (formerly the Buffalo Bill Memorial Museum) professional staff in consultation with representatives of the Crow Tribe of Montana.

History and Description of the Remains

Prior to 1931, human remains representing, at minimum, one individual came into the possession of Johnny Baker, foster son of Buffalo Bill Cody. The first mention of the scalp was in the museum's 1931 inventory when the collection was under the control of Mr. Baker and his wife Olive. Upon Olive's death in 1957, control of the collection was transferred to the City of Denver, which operates the Buffalo Bill Museum and Grave. The inventory done in 1957, at the time the collection was transferred, includes a “Crow scalp”. No known individuals were identified. No associated funerary objects are present. The human remains are Native American based on the museum records.

Determinations Made by the Buffalo Bill Museum and Grave (formerly the Buffalo Bill Memorial Museum)

Officials of the Buffalo Bill Museum and Grave (formerly the Buffalo Bill Memorial Museum) have determined that:

• Pursuant to 25 U.S.C. 3001(9), the human remains described in this notice represent the physical remains of one individual of Native American ancestry.

• Pursuant to 25 U.S.C. 3001(2), there is a relationship of shared group identity that can be reasonably traced between the Native American human remains and the Crow Tribe of Montana.

Additional Requestors and Disposition

Lineal descendants or representatives of any Indian tribe or Native Hawaiian organization not identified in this notice that wish to request transfer of control of these human remains should submit a written request with information in support of the request to Steve Friesen, Director, Buffalo Bill Museum and Grave, 987 1/2 Lookout Mountain Road, Golden, CO 80401, telephone (303) 526-0744, email steve.friesen@denvergov.org, by March 6, 2015. After that date, if no additional requestors have come forward, transfer of control of the human remains to the Crow Tribe of Montana may proceed.

The Buffalo Bill Museum and Grave (formerly the Buffalo Bill Memorial Museum) is responsible for notifying the Crow Tribe of Montana that this notice has been published.

Dated: December 19, 2014.
Melanie O'Brien,
Acting Manager, National NAGPRA Program.

[FR Doc. 2015-02186 Filed 2-3-15; 8:45 am]

BILLING CODE 4312-50-P